DEPARTMENT OF HOMELAND SECURITY

Coast Guard

[Docket No USCG-2023-0392]

Recertification of Cook Inlet Regional Citizens' Advisory Council

AGENCY: Coast Guard, DHS.

ACTION: Notice of recertification.

SUMMARY: The Coast Guard announces the recertification of the Cook Inlet Regional Citizens' Advisory Council (CIRCAC) as an alternative voluntary advisory group for Cook Inlet, Alaska. This certification allows the CIRCAC to monitor the activities of terminal facilities and crude oil tankers under the Cook Inlet Program established by the Oil Terminal and Oil Tanker Environmental Oversight and Monitoring Act of 1990.

DATES: This recertification is effective for the period from September 01, 2023 through August 31, 2024.

FOR FURTHER INFORMATION CONTACT: For information about this document, call or email LT Case Kuikhoven, Seventeenth Coast Guard District (dpi), by phone at (907) 463-2809 or email at case.a.kuikhoven@uscg.mil.

SUPPLEMENTARY INFORMATION:

Background and Purpose

The Coast Guard published guidelines on December 31, 1992 (57 FR 62600), to assist groups seeking recertification under the Oil Terminal and Oil Tanker Environmental Oversight and Monitoring Act of 1990 (33 U.S.C. 2732) (the Act). The Coast Guard issued a policy statement on July 7, 1993 (58 FR 36504), to clarify the factors that the Coast Guard would be considering in making its determination as to whether advisory groups should be certified in accordance with the Act, and the procedures which the Coast Guard would follow in meeting its certification responsibilities under the Act. Most recently, on September 16, 2002 (67 FR 58440), the Coast Guard changed its policy on recertification procedures for regional citizen's advisory council by requiring applicants to provide comprehensive information every three years. For each of the two years between the triennial application procedures, applicants submit a letter requesting recertification that includes a description of any substantive changes to the information provided at the previous triennial recertification. Further, public comment is only solicited during the triennial comprehensive review.

Discussion of Comments

On June 20, 2023, the Coast Guard published a Notice; Request for comments titled “Application for Recertification of Cook Inlet Regional Citizens' Advisory Council” in the Federal Register (88 FR 39857). We received 33 comments, all in support of CIRCAC's recertification. No public meeting was requested. The comments consistently cited CIRCAC's collaborative partnerships in furthering the respective communities' interest to promote safety, efforts to keep the public informed, oil spill industry monitoring efforts, effective prevention and response efforts regarding oil pollution, and to protect the sensitive marine environment along Alaska's coastline.

Recertification

By letter dated August 23, 2023, the Commander, Seventeenth Coast Guard District, certified that the CIRCAC qualifies as an alternative voluntary advisory group under 33 U.S.C. 2732(o). This recertification terminates on August 31, 2024.

Dated: August 23, 2023.
M. M. Dean,
Rear Admiral, U.S. Coast Guard, Commander, Seventeenth Coast Guard District.

[FR Doc. 2023-18877 Filed 8-30-23; 8:45 am]

BILLING CODE 9110-04-P